DEPARTMENT OF COMMERCE

National Oceanic and Atmospheric Administration

50 CFR Part 226

RIN 0648-XD415

Endangered and Threatened Species; Designation of Critical Habitat for Steller Sea Lions; Public Meeting

AGENCY: National Marine Fisheries Service (NMFS), National Oceanic and Atmospheric Administration (NOAA), Commerce.

ACTION: Notice of public meeting; request for presentations.

SUMMARY: NMFS will host a meeting to elicit scientific information related to the designation of Steller sea lion critical habitat under the Endangered Species Act (ESA). NMFS is considering revisions to the critical habitat designation to take into account new information that has become available since NMFS designated critical habitat in 1993. This meeting will provide an opportunity for NMFS to receive presentations from the public concerning new and relevant scientific information. NMFS requests that parties interested in presenting information pertaining to the identification of areas as critical habitat for the Western Distinct Population Segment (DPS) of Steller sea lion submit a statement of interest, including an abstract of the information to be presented.

DATES: The meeting will be held September 22, 2014, from 9:00 a.m.-5:00 p.m. Pacific Daylight Time. Statements of interest and abstracts must be received by 5:00 p.m. Alaska Daylight Time on August 29, 2014 to be considered for presentation during the meeting.

ADDRESSES: You may submit statements of interest in making a presentation and abstracts, identified by NOAA-NMFS-2014-0096, by either of the following methods:

Electronic Submissions: Submit all electronic statements of interest in making a presentation and abstracts via the Federal eRulemaking Portal. Go to www.regulations.gov/#!docketDetail;D=NOAA-NMFS-2014-0096, click the “Comment Now!” icon, complete the required fields, and enter or attach your statement of interest in making a presentation and your abstract.

Mail: Submit written statements of interest in making a presentation and abstracts to Jon Kurland, Assistant Regional Administrator for Protected Resources, Alaska Region, NMFS, Attn: Ellen Sebastian, P.O. Box 21668, Juneau, AK 99802-1668. Statements of interest in making a presentation and abstracts sent by any other method, to any other address or individual, or received after the end of the submission period, may not be considered by NMFS. All materials received are a part of the public record and will generally be posted for public viewing on www.regulations.gov.

The meeting will be held at NMFS Alaska Fisheries Science Center, 7600 Sand Point Way NE., Building 4, Seattle, WA 98115, in the Jim Traynor Conference Room. Information about designation of critical habitat under the ESA is available at: http://www.fisheries.noaa.gov/pr/species/criticalhabitat.htm.

FOR FURTHER INFORMATION CONTACT: Dr. Lisa Rotterman, 907-271-1692.

SUPPLEMENTARY INFORMATION:

Background

The Steller sea lion was originally listed as a threatened species under the ESA by an emergency interim rule on April 5, 1990 (55 FR 12645). NMFS published a final rule to list the Steller sea lion as a threatened species under the ESA on November 26, 1990 (55 FR 49204). NMFS designated critical habitat for the Steller sea lion on August 27, 1993 (58 FR 45269). On May 5, 1997 (62 FR 24345), based on demographic and genetic dissimilarities, NMFS identified two DPSs of Steller sea lions under the ESA: a western DPS and an eastern DPS. Due to persistent decline, the western DPS was reclassified as endangered, while the eastern DPS remained classified as threatened. On November 4, 2013, NMFS published a final rule to delist the eastern DPS (78 FR 66140). In that final rule, NMFS stated that “NMFS will undertake a separate rulemaking to consider amendment to the existing critical habitat designation that takes into account any new and pertinent sources of information since the 1993 designation, including amending the critical habitat designation as appropriate to reflect the delisting of the eastern DPS.” NMFS has begun a review of Steller sea lion critical habitat to determine if revision of the existing critical habitat is warranted.

Section 3 of the ESA defines critical habitat as “(i) the specific areas within the geographical area occupied by the species, at the time it is listed [under Section 4], on which are found those physical or biological features (I) essential to the conservation of the species and (II) which may require special management considerations or protection; and (ii) specific areas outside the geographical area occupied by the species at the time it is listed, upon a determination by the Secretary that such areas are essential for the conservation of the species.”

Section 4 of the ESA requires the designation of critical habitat for threatened and endangered species and provides for the revision of critical habitat based on the best scientific data available after taking into consideration the economic impact, the impact on national security, and any other relevant impact of specifying any particular area as critical habitat. Critical habitat may only be designated in areas under U.S. jurisdiction (50 CFR 424.12(h)).

Public Science Meeting

NMFS will hold a public meeting to elicit external scientific information that is relevant to NMFS's review of Steller sea lion critical habitat. The existing critical habitat designation for Steller sea lions was developed for the species throughout its range in the U.S. (58 FR 45269; August 27, 1993), encompassing what NMFS subsequently identified as two DPSs (62 FR 24345; May 5, 1997). Given the recent delisting of the eastern DPS, any revisions to critical habitat should be based upon the physical or biological features essential to the conservation of the endangered western DPS.

NMFS requests that parties interested in presenting information relevant to the identification of areas as critical habitat for the western DPS of Steller sea lion submit a statement of interest with a brief (one page or less) abstract of the type of information to be presented. Presentations must address scientific information that is germane to the identification of areas that meet the ESA's definition of critical habitat. Persons or groups proposing to present information that is not relevant to this topic will not be invited to make presentations.

Due to the limited time available for presentations, NMFS encourages individuals or groups that may have similar or related scientific information, or similar interpretations of the best available scientific information, to coordinate their proposed presentations into subject specific panels to present the information effectively and minimize redundancy. For example, a panel could be comprised of a team of scientists who have worked together in collaborative studies that address relevant questions, several fishing industry representatives, or several representatives of non-governmental organizations, with each participant addressing a different facet of the relevant scientific information.

NMFS will review the statements of interest, abstracts, and proposed panels that are submitted and will schedule the presentations so as to focus on the scientific information most relevant to the criteria for identifying critical habitat. The amount of time available per presenter or panel will depend on the number of persons and groups wishing to make presentations. NMFS will contact the proposed presenters in advance of the meeting to specify the amount of time available and the approximate schedule. During the meeting, presenters may provide additional written information to NMFS for consideration.

More information on the basis for NMFS's determination of critical habitat is available on the NMFS Web site (see ADDRESSES).

Arrangements for Foreign Nationals

Individuals wishing to attend the meeting who are not citizens of the United States must make prior arrangements to be permitted entrance to the Alaska Fisheries Science Center (see ADDRESSES). Requests for such arrangements should be directed to Jennifer Ferdinand by email at jennifer.ferdinand@noaa.gov by September 8, 2014.

Special Accommodations

The meeting is physically accessible to people with disabilities. Requests for sign language interpretation or other auxiliary aids should be directed to Jennifer Ferdinand, (206) 526-4076, at least 5 working days prior to the meeting date.

Dated: August 1, 2014.
Donna S. Wieting,
Director, Office of Protected Resources, National Marine Fisheries Service.

[FR Doc. 2014-18822 Filed 8-7-14; 8:45 am]

BILLING CODE 3510-22-P